OFFICE OF THE UNITED STATES TRADE REPRESENTATIVE

Revised Fiscal Year 2006 Tariff-Rate Quota Additional Allocations for Refined and Specialty Sugar; Initial Fiscal Year 2007 Tariff-Rate Quota Allocations for Raw Cane Sugar, Refined Sugar, Specialty Sugar, and Sugar-Containing Products; and Notice of Agreement Between the United States and Mexico on Market Access for Sweeteners

AGENCY: Office of the United States Trade Representative.

ACTION: Notice.

SUMMARY: The Office of the United States Trade Representative (USTR) is providing notice of additional allocations of the in-quota quantity of the tariff-rate quotas for imported refined sugar and specialty sugar for the period October 1, 2005 through September 30, 2006 (FY 2006). USTR is also providing notice of country-by-country allocations of the FY 2007 in-quota quantity of the tariff-rate quota for imported raw cane sugar, refined sugar, specialty sugar and sugar-containing products. In addition, USTR is providing notice of Agreement between the United States and Mexico on Market Access for Sweeteners.

EFFECTIVE DATE: August 9, 2006.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: Pursuant to Additional U.S. Note 5 to chapter 17 of the Harmonized Tariff Schedule of the United States (HTS), the United States maintains a tariff-rate quota for imports of raw cane sugar and refined sugar.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

FY 2006

On July 27, 2006, the Secretary of Agriculture increased the in-quota quantity of the tariff-rate quota for refined sugar for FY 2006 by 90,719 metric tons raw value, none of which is for specialty sugars. USTR is allocating a total of 26,681 metric tons raw value to Mexico. The remaining 64,038 metric tons raw value of the in-quota quantity may be supplied by any country on a first-come, first-served basis, subject to any other provision of law. The certificate of quota eligibility is required for sugar entering under the tariff-rate quota for refined sugar that is the product of a country that has been allocated a share of the tariff-rate quota for refined sugar.

Also on July 27, 2006, the Secretary of Agriculture increased the in-quota quantity of the tariff-rate quota for specialty sugar for FY 2006 by 9,000 metric tons raw value. This quantity may be supplied by any country on a first-come, first-served basis, subject to any other provision of law.

FY 2007

On July 27, 2006, the Secretary of Agriculture announced the sugar program provisions for fiscal year (FY) 2007 (Oct. 1, 2006, through Sept. 30, 2007). The in-quota quantity of the tariff-rate quota for raw cane sugar for FY 2007 is 1,343,992 metric tons* raw value, which is 226,797 metric tons above the minimal amount to which the United States is committed under the World Trade Organization (WTO) Uruguay Round Agreements. The FY 2007 raw sugar tariff-rate quota will be allowed early entry beginning August 7, 2006 and no shipping patterns will be established. USTR is allocating this quantity. The total quantity of the raw cane sugar allocations of 1,343,992 metric tons raw value is being allocated to the following countries:

Country | FY 2007 raw cane sugar allocations (metric tons raw value)
Argentina | 55,112
Australia | 106,378
Barbados | 8,972
Belize | 14,098
Bolivia | 10,253
Brazil | 185,841
Colombia | 30,760
Congo | 7,258
Costa Rica | 19,225
Cote d'Ivoire | 7,258
Dominican Republic | 225,573
Ecuador | 14,098
El Salvador | 33,323
Fiji | 11,535
Gabon | 7,258
Guatemala | 61,520
Guyana | 15,380
Haiti | 7,258
Honduras | 12,817
India | 10,253
Jamaica | 14,098
Madagascar | 7,258
Malawi | 12,817
Mauritius | 15,380
Mexico | 7,258
Mozambique | 16,662
Nicaragua | 26,915
Panama | 37,168
Papua New Guinea | 7,258
Paraguay | 7,258
Peru | 52,548
Philippines | 173,025
South Africa | 29,478
St. Kitts & Nevis | 7,258
Swaziland | 20,507
Taiwan | 15,380
Thailand | 17,943
Trinidad & Tobago | 8,972
Uruguay | 7,258
Zimbabwe | 15,380

These allocations are based on the countries' historical shipments to the United States. The allocations of the raw cane sugar tariff-rate quota to countries that are net importers of sugar are conditioned on receipt of the appropriate verifications of origin.

On July 27, 2006, the Secretary of Agriculture established the FY 2007 refined sugar tariff-rate quota 57,000 metric tons raw value for which the sucrose content, by weight in the dry state, must have a polarimeter reading of 99.5 degrees or more. This amount includes the minimum level to which the United States is committed under the WTO Uruguay Round Agreement (22,000 metric tons raw value of which 1,656 metric tons raw value is specialty sugar) and an additional 35,000 metric tons raw value for specialty sugars. USTR is allocating a total of 10,300 metric tons raw value to Canada, 2,954 metric tons raw value to Mexico, and 7,090 metric tons raw value to be administered on a first-come, first-served basis. This additional amount combined with a specialty sugar allocation of 1,656. The 36,656 metric tons raw value allocation of specialty sugar, which includes the additional 35,000 metric tons raw value of specialty sugar and the specialty sugar allocation of 1,656 metric tons raw value included in the 22,000 metric tons raw value WTO minimum, will be administered on a first-come, first-served basis.

With respect to the tariff-rate quota of 64,709 metric tons for certain sugar-containing products maintained under Additional U.S. Note to Chapter 17 to the Harmonized Tariff Schedule of the United States, 59,250 metric tons is being allocated to Canada. The remainder of the sugar-containing products tariff-rate quota is available for other countries on a first-come, first-served basis.

Mexico

As USDA noted in its press release of July 27, the United States and Mexico have determined jointly, in accordance with Annex 703.2 of North American Free Trade Agreement (NAFTA), that Mexico is projected to be a net surplus producer of sugar for FY 2007, and accordingly that Mexico will be permitted to enter up to 250,000 metric tons raw or refined sugar duty free in FY 2007. Quantities allocated to Mexico under WTO raw cane sugar tariff-rate quota, but not the WTO refined sugar tariff-rate quota, will be counted against this amount. Certificates for quota eligibility are required for entry of tariff-rate quota sugar from Mexico.

As also noted in the USDA press release, the United States and Mexico have reached an agreement on market access for sweeteners. That agreement, set forth in an exchange of letters dated July 27, 2006, provides Mexico duty-free access to the United States for 250,000 metric tons raw value of raw or refined sugar in FY 2007 and at least 175,000 metric tons raw value of raw or refined sugar for the first three months of FY 2008 (Oct. 1 through Dec. 31, 2007). Under the agreement, Mexico will provide reciprocal access for U.S. high fructose corn syrup (HFCS), including 250,000 metric tons in FY 2007 and at least 175,000 metric tons for the first three months of FY 2008 (Oct. 1 through Dec. 31, 2007). Mexico also commits that effective January 1, 2008 it will not impose duties on U.S. HFCS. The United States and Mexico confirm that on July 3, 2006 they submitted a joint letter to the WTO Dispute Settlement Body regarding the elimination of Mexico's soft drink and distribution taxes. Mexico will establish a duty-free quota for U.S. sugar of not less than 7,258 metric tons raw value for each of marketing years 2006, 2007, and 2008. The over-quota tariff on U.S. sugar will be eliminated effective January 1, 2008 as provided for in the NAFTA.

For its part, Mexico announced on July 27 its actions to implement the July 27 agreement with respect to FY 2007 amounts. Mexico and the United States will consult before July 1, 2007 in order to set allocations for the first three months of FY 2008, which per the agreement may range from 175,000 metric tons raw value to 250,000 metric tons raw value.

*Conversion factor: 1 metric ton = 1.10231125 short tons.

Susan C. Schwab,
United States Trade Representative.

[FR Doc. E6-12891 Filed 8-8-06; 8:45 am]

BILLING CODE 3190-W6-P